DEPARTMENT OF AGRICULTURE

Food and Nutrition Service

Child and Adult Care Food Program: National Average Payment Rates, Day Care Home Food Service Payment Rates, and Administrative Reimbursement Rates for Sponsoring Organizations of Day Care Homes for the Period, July 1, 2015 Through June 30, 2016

AGENCY: Food and Nutrition Service, USDA.

ACTION: Notice.

SUMMARY: This notice announces the annual adjustments to the national average payment rates for meals and snacks served in child care centers, outside-school-hours care centers, at-risk afterschool care centers, and adult day care centers; the food service payment rates for meals and snacks served in day care homes; and the administrative reimbursement rates for sponsoring organizations of day care homes, to reflect changes in the Consumer Price Index. Further adjustments are made to these rates to reflect the higher costs of providing meals in the States of Alaska and Hawaii. The adjustments contained in this notice are made on an annual basis each July, as required by the laws and regulations governing the Child and Adult Care Food Program.

DATES: These rates are effective from July 1, 2015 through June 30, 2016.

FOR FURTHER INFORMATION CONTACT: Steve Hortin, Branch Chief, Program Monitoring and Operational Support Division, Child Nutrition Programs, Food and Nutrition Service, U.S. Department of Agriculture, 3101 Park Center Drive, Room 640, Alexandria, Virginia 22302-1594; phone 703-305-4375.

SUPPLEMENTARY INFORMATION:

Definitions

The terms used in this notice have the meanings ascribed to them in the Child and Adult Care Food Program regulations, 7 CFR part 226.

Background

Pursuant to sections 4, 11, and 17 of the Richard B. Russell National School Lunch Act (42 U.S.C. 1753, 1759a and 1766), section 4 of the Child Nutrition Act of 1966 (42 U.S.C. 1773) and 7 CFR 226.4, 226.12 and 226.13 of the Program regulations, notice is hereby given of the new payment rates for institutions participating in the Child and Adult Care Food Program (CACFP). These rates are in effect during the period, July 1, 2015 through June 30, 2016.

As provided for under the law, all rates in the CACFP must be revised annually, on July 1, to reflect changes in the Consumer Price Index (CPI), published by the Bureau of Labor Statistics of the United States Department of Labor, for the most recent 12-month period. In accordance with this mandate, the United States Department of Agriculture (USDA) last published the adjusted national average payment rates for centers, the food service payment rates for day care homes, and the administrative reimbursement rates for sponsoring organizations of day care homes, for the period from July 1, 2014 through June 30, 2015, on July 16, 2014, in the Federal Register at 79 FR 41531.

Adjusted Payments

The following national average payment factors and food service payment rates for meals and snacks are in effect from July 1, 2015 through June 30, 2016. All amounts are expressed in dollars or fractions thereof. Due to a higher cost of living, the reimbursements for Alaska and Hawaii are higher than those for all other States. The District of Columbia, Virgin Islands, Puerto Rico, and Guam use the figures specified for the contiguous States. These rates do not include the value of USDA Foods or cash-in-lieu of USDA Foods which institutions receive as additional assistance for each lunch or supper served to participants under the Program. A notice announcing the value of USDA Foods and cash-in-lieu of USDA Foods is published separately in the Federal Register.

National Average Payment Rates for Centers

Payments for breakfasts served are: Contiguous States—paid rate—29 cents (1 cent increase from 2014-2015 annual level), reduced price rate—136 cents (4 cents increase), free rate—166 cents (4 cents increase); Alaska—paid rate—43 cents (1 cent increase), reduced price rate—236 cents (7 cents increase), free rate—266 cents (7 cents increase); Hawaii—paid rate—33 cents (1 cent increase), reduced price rate—164 cents (6 cents increase), free rate—194 cents (6 cents increase).

Payments for lunch or supper served are: Contiguous States—paid rate—29 cents (1 cent increase from 2014-2015 annual level), reduced price rate—267 cents (9 cents increase), free rate—307 cents (9 cents increase); Alaska—paid rate—48 cents (2 cents increase), reduced price rate—459 cents (15 cents increase), free rate—499 cents (15 cents increase); Hawaii—paid rate—34 cents (1 cent increase), reduced price rate—320 cents (11 cents increase), free rate—360 cents (11 cents increase).

Payments for snack served are: Contiguous States—paid rate—7 cents (no change from 2014-2015 annual level), reduced price rate—42 cents (1 cent increase), free rate—84 cents (2 cents increase); Alaska—paid rate—12 cents (no change), reduced price rate—68 cents (2 cents increase), free rate—137 cents (4 cents increase); Hawaii—paid rate—9 cents (1 cent increase), reduced price rate—49 cents (1 cent increase), free rate—99 cents (3 cents increase).

Food Service Payment Rates for Day Care Homes

Payments for breakfast served are: Contiguous States—tier I—132 cents (1 cent increase from 2014-2015 annual level) and tier II—48 cents (no change); Alaska—tier I—211 cents (2 cents increase) and tier II—75 cents (1 cent increase); Hawaii—tier I—154 cents (1 cent increase) and tier II—55 cents (no change).

Payments for lunch and supper served are: Contiguous States—tier I—248 cents (1 cent increase from 2014-2015 annual level) and tier II—150 cents (1 cent increase); Alaska—tier I—402 cents (2 cents increase) and tier II—243 cents (2 cents increase); Hawaii—tier I—290 cents (2 cents increase) and tier II—175 cents (1 cent increase).

Payments for snack served are: Contiguous States—tier I—74 cents (1 cent increase from 2014-2015 annual level) and tier II—20 cents (no change); Alaska—tier I—120 cents (1 cent increase) and tier II—33 cents (no change); Hawaii—tier I—86 cents (no change) and tier II—24 cents (1 cent increase).

Administrative Reimbursement Rates for Sponsoring Organizations of Day Care Homes

Monthly administrative payments to sponsors for each sponsored day care home (no changes from 2014-2015 annual levels) are: Contiguous States—initial 50 homes—111 dollars, next 150 homes—85 dollars, next 800 homes—66 dollars, each additional home—58 dollars; Alaska—initial 50 homes—180 dollars, next 150 homes—137 dollars, next 800 homes—107 dollars, each additional home—94 dollars; Hawaii—initial 50 homes—130 dollars, next 150 homes—99 dollars, next 800 homes—77 dollars, each additional home—68 dollars.

Payment Chart

The following chart illustrates the national average payment factors and food service payment rates for meals and snacks in effect from July 1, 2015, through June 30, 2016.

Child and Adult Care Food Program (CACFP)
[Per meal rates in whole or fractions of U.S. dollars, effective from July 1, 2015-June 30, 2016]
Centers | Breakfast | Lunch and supper | Supplement ¹
CONTIGUOUS STATES:
PAID | 0.29 | 0.29 | 0.07
REDUCED PRICE | 1.36 | 2.67 | 0.42
FREE | 1.66 | 3.07 | 0.84
ALASKA:
PAID | 0.43 | 0.48 | 0.12
REDUCED PRICE | 2.36 | 4.59 | 0.68
FREE | 2.66 | 4.99 | 1.37
HAWAII:
PAID | 0.33 | 0.34 | 0.09
REDUCED PRICE | 1.64 | 3.20 | 0.49
FREE | 1.94 | 3.60 | 0.99

Day Care Homes | Breakfast: Tier I | Breakfast: Tier II | Lunch and Supper: Tier I | Lunch and Supper: Tier II | Supplement: Tier I | Supplement: Tier II
CONTIGUOUS STATES | 1.32 | 0.48 | 2.48 | 1.50 | 0.74 | 0.20
ALASKA | 2.11 | 0.75 | 4.02 | 2.43 | 1.20 | 0.33
HAWAII | 1.54 | 0.55 | 2.90 | 1.75 | 0.86 | 0.24
¹ These rates do not include the value of USDA Foods or cash-in-lieu of USDA Foods which institutions receive as additional assistance for each CACFP lunch or supper served to participants. A notice announcing the value of USDA Foods and cash-in-lieu of USDA Foods is published separately in the Federal Register.

Administrative Reimbursement Rates for Sponsoring Organizations of Day Care Homes
[Per home/per month rates in U.S. dollars]
| Initial 50 | Next 150 | Next 800 | Each additional
CONTIGUOUS STATES | 111 | 85 | 66 | 58
ALASKA | 180 | 137 | 107 | 94
HAWAII | 130 | 99 | 77 | 68

The changes in the national average payment rates for centers reflect a 2.97 percent increase during the 12-month period, May 2014 to May 2015, (from 247.952 in May 2014, as previously published in the Federal Register, to 255.322 in May 2015) in the food away from home series of the CPI for All Urban Consumers.

The changes in the food service payment rates for day care homes reflect a 0.63 percent increase during the 12-month period, May 2014 to May 2015, (from 239.504 in May 2014, as previously published in the Federal Register, to 241.019 in May 2015) in the food at home series of the CPI for All Urban Consumers.

The changes in the administrative reimbursement rates for sponsoring organizations of day care homes reflect a 0.04 percent decrease during the 12-month period, May 2014 to May 2015 (from 237.900 in May 2014, as previously published in the Federal Register, to 237.805 in May 2015) in the series for all items of the CPI for All Urban Consumers.

The total amount of payments available to each State agency for distribution to institutions participating in CACFP is based on the rates contained in this notice.

This action is not a rule as defined by the Regulatory Flexibility Act (5 U.S.C. 601-612) and thus is exempt from the provisions of that Act. This notice has been determined to be exempt under Executive Order 12866.

CACFP is listed in the Catalog of Federal Domestic Assistance under No. 10.558 and is subject to the provisions of Executive Order 12372, which requires intergovernmental consultation with State and local officials. (See 2 CFR 415.3-415.6).

This notice has been determined to be not significant and was reviewed by the Office of Management and Budget (OMB) in conformance with Executive Order 12866.

This notice imposes no new reporting or recordkeeping provisions that are subject to OMB review in accordance with the Paperwork Reduction Act of 1995 (44 U.S.C. 3501-3518).

Authority: Sections 4(b)(2), 11a, 17(c) and 17(f)(3)(B) of the Richard B. Russell National School Lunch Act (42 U.S.C. 1753(b)(2), 1759a, 1766(f)(3)(B)) and section 4(b)(1)(B) of the Child Nutrition Act of 1966 (42 U.S.C. 1773(b)(1)(B)).

Dated: July 12, 2015.
Audrey Rowe,
Administrator, Food and Nutrition Service.

[FR Doc. 2015-17597 Filed 7-16-15; 8:45 am]

BILLING CODE 3410-30-P